DEPARTMENT OF THE INTERIOR

Office of the Secretary

[FWS-HQ-NWRS-2020-N011; FXGO1664091HCC0-FF09D00000-190]

Renewal of the Hunting and Shooting Sports Conservation Council Charter

AGENCY: Office of the Secretary, Interior.

ACTION: Notice.

SUMMARY: The Secretary of the Interior, after consultation with the General Services Administration, has renewed the Hunting and Shooting Sports Conservation Council (Council) for 2 years. The Council provides recommendations on aspects of the implementation of a number of Departmental authorities and other authorities applicable to specific bureaus.

ADDRESSES: For more information on the Council, see https://www.fws.gov/hsscc.

FOR FURTHER INFORMATION CONTACT: Douglas Hobbs, U.S. Fish and Wildlife Service, 5275 Leesburg Pike, MS-EA; Falls Church, VA 22041; doug_hobbs@fws.gov; 703-358-2336.

SUPPLEMENTARY INFORMATION: The Secretary of the Interior (Secretary), after consultation with the General Services Administration, has renewed the Hunting and Shooting Sports Conservation Council (Council) for 2 years. The Council provides recommendations on aspects of the implementation of a number of Department of the Interior authorities, including the Fish and Wildlife Act of 1956 (16 U.S.C. 742a), the Federal Land Policy and Management Act of 1976 (43 U.S.C. 1701), the National Wildlife Refuge System Improvement Act of 1997 (16 U.S.C. 668dd), and other authorities applicable to specific Interior bureaus.

The Council, established in May 2018, conducts its activities in accordance with the provisions of the Federal Advisory Committee Act (5 U.S.C. Appendix 2). It reports to the Secretary of the Interior and Secretary of Agriculture and functions solely as an advisory body. The Council provides recommendations and advice regarding wildlife and habitat conservation endeavors that (1) benefit wildlife resources; (2) encourage partnerships among the public, sporting conservation organizations, and Federal, state, tribal, and territorial governments; and (3) benefit recreational hunting and recreational shooting sports. For more information about duties and membership, please visit the Council website (see ADDRESSES).

We have filed a copy of the Council's charter with the Committee Management Secretariat, General Services Administration; the Committee on Environment and Public Works, United States Senate; the Committee on Natural Resources, United States House of Representatives; and the Library of Congress.

Certification

I hereby certify that the Hunting and Shooting Sports Conservation Council is necessary and in the public interest and serves to further efforts by the Department of the Interior to implement a number of its authorities, including the Fish and Wildlife Act of 1956 (16 U.S.C. 742a); the Federal Land Policy and Management Act of 1976 (43 U.S.C. 1701); the National Wildlife Refuge System Improvement Act of 1997 (16 U.S.C. 668dd); other Acts applicable to specific bureaus; Executive Order 13443—Facilitation of Hunting Heritage and Wildlife Conservation; Secretary's Order 3347—Conservation Stewardship and Outdoor Recreation; and Secretary's Order 3356—Hunting, Fishing, Recreational Shooting, and Wildlife Conservation Opportunities and Coordination with States, Tribes, and Territories. The Council will assist the Department of the Interior by providing advice and recommendations on all aspects of implementation of these legal authorities and related Secretarial Orders.

Authority: 5 U.S.C. Appendix 2.

Dated: June 16, 2020.
David L. Bernhardt,
Secretary of the Interior.

[FR Doc. 2020-13403 Filed 6-22-20; 8:45 am]

BILLING CODE 4333-15-P